EXECUTIVE OFFICE OF THE PRESIDENT

Office of National Drug Control Policy

Removal of 5 Counties as High Intensity Drug Trafficking Areas

AGENCY: Office of National Drug Control Policy.

ACTION: Notice of removal of HIDTA county designation.

SUMMARY: The Director of the Office of National Drug Control Policy (ONDCP) removed 5 counties as High Intensity Drug Trafficking Areas (HIDTA) counties pursuant to 21 U.S.C. 1706, effective September 29, 2014. The 5 counties removed from HIDTA county designation within the Appalachia HIDTA are (1) Cumberland and Clinton Counties in Kentucky; (2) Clay and White Counties in Tennessee; and (3) Mason County in West Virginia. The Executive Board of the Appalachia HIDTA requested removal of these counties from designation after assessing the threat and determining that these counties no longer met the statutory criteria necessary for designation as HIDTA counties. ONDCP evaluated and accepted the request.

FOR FURTHER INFORMATION CONTACT: Questions regarding this notice should be directed to Michael K. Gottlieb, National HIDTA Program Director, Office of National Drug Control Policy, Executive Office of the President, Washington, DC 20503; (202) 395-4868.

Dated: October 27, 2014.
Daniel Rader,
Deputy General Counsel.

[FR Doc. 2014-25994 Filed 10-31-14; 8:45 am]

BILLING CODE 3280-F5-P